NUCLEAR REGULATORY COMMISSION

10 CFR Part 110

RIN 3150-AH44

Export and Import of Radioactive Materials: Security Policies; Correction

AGENCY: Nuclear Regulatory Commission.

ACTION: Final rule: correction.

SUMMARY: This document corrects a final rule appearing in the Federal Register on July 1, 2005 (70 FR 37985) amending the NRC's regulations pertaining to the export and import of radioactive materials. This action is necessary to correct typographical errors and to revise four amendatory changes.

DATES: Effective December 28, 2005.

FOR FURTHER INFORMATION CONTACT: Suzanne Schuyler-Hayes, Office of International Programs, U.S. Nuclear Regulatory Commission, Washington, DC 20555-0001, telephone (301) 415-2333, e-mail: ssh@nrc.gov.

SUPPLEMENTARY INFORMATION: In FR Doc. 05-12985 published July 1, 2005 (70 FR 37985), make the following corrections:

PART 110—[AMENDED]

1. Amendatory instruction 3 is corrected to read as follows:

§ 110.21 [Amended]

3. In § 110.21, paragraph (a)(4) is amended by removing “100 millicuries” and adding in its place “3.7 × 10⁻³ TBq (100 millicuries).”

2. Amendatory instruction 4 is corrected to read as follows:

§ 110.22 [Amended]

4. In § 110.22, paragraph (a)(3) is amended by removing “100 millicuries” and adding in its place “3.7 × 10⁻³ TBq (100 millicuries).”

3. In § 110.23, paragraph (a)(2) is corrected to read as follows:

§ 110.23 General license for the export of byproduct material.

(a) * * *

(2) Actinium-225 and -227, americium-241 and -242m, californium-248, -249, -250, -251, -252, -253, and -254, curium-240, -241, -242, -243, -244, -245, -246 and -247, einsteinium-252, -253, -254 and -255, fermium-257, gadolinium-148, mendelevium-258, neptunium-235 and -237, polonium-210, and radium-223 must be contained in a device, or a source for use in a device, in quantities of less than 3.7 × 10⁻³ TBq (100 millicuries) of alpha activity per device or source, unless the export is to a country listed in Sec. 110.30. Individual shipments must be less than the TBq values specified in Category 2 of Table 1 of Appendix P to this Part. Exports of americium and neptunium are subject to the reporting requirements listed in paragraph (b) of this section.

* * * * *

4. Amendatory instruction 8 is corrected to read as follows:

§ 110.40 [Amended]

8. In § 110.40, paragraph (b)(7)(iv) is amended by removing “1,000 curies of tritium” and adding in its place “37 TBq (1,000 curies) of tritium.”

5. Amendatory instruction 9 is corrected to read as follows:

§ 110.41 [Amended]

9. In § 110.41, paragraph (a)(4) is amended by removing “100 curies of tritium” and adding in its place “3.7 TBq (100 curies) of tritium.”

6. In § 110.42, paragraph (e)(1) is corrected to read as follows:

§ 110.42 Export licensing criteria.

* * * * *

(e) * * *

(1) Whether the foreign recipient is authorized based on the authorization or confirmation required by § 110.32(h) to receive and possess the material under the laws and regulations of the importing country;

* * * * *

Dated at Rockville, Maryland, this 3rd day of August, 2005.
For the Nuclear Regulatory Commission.
Michael T. Lesar,
Federal Register Liaison Officer.

[FR Doc. 05-15688 Filed 8-8-05; 8:45 am]

BILLING CODE 7590-01-P